FEDERAL COMMUNICATIONS COMMISSION

47 CFR Part 73

[DA 08-1406; MB Docket No. 08-12; RM-11414]

Radio Broadcasting Service; Dededo, Guam

AGENCY: Federal Communications Commission.

ACTION: Final rule.

SUMMARY: In response to a Notice of Proposed Rule Making, the Audio Division issues a Report and Order granting a petition for rule making filed by Moy Communications, Inc. requesting the allotment of Channel 243C1 at Dededo, Guam. Channel 243C1 can be allotted at Dededo, Guam, in compliance with the Commission's technical engineering requirements, at 13-29-17 North Latitude and 144-49-35 West Longitude with a site restriction of 3.2 kilometers (2 miles) south of Dededo, Guam.

DATES: Effective July 28, 2008.

ADDRESSES: Secretary, Federal Communications Commission, 445 Twelfth Street, SW., Washington, DC 20554.

FOR FURTHER INFORMATION CONTACT: R. Barthen Gorman, Media Bureau, (202) 418-2180.

SUPPLEMENTARY INFORMATION: This is a synopsis of the Commission's Report and Order, MB Docket No. 08-12, adopted June 11, 2008, and released June 13, 2008. The Notice of Proposed Rule Making proposed the allotment of Channel 243C1 at Dededo, Guam. See 73 FR 9515, published February 21, 2008. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, D.C. 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Guam, is amended by adding Dededo, Channel 243C1.

Federal Communications Commission.
John A. Karousos,
Assistant Chief, Audio Division Media Bureau.

[FR Doc. E8-14891 Filed 7-2-08; 8:45 am]

BILLING CODE 6712-01-P